DEPARTMENT OF HEALTH AND HUMAN SERVICES

Administration for Community Living

Intent To Award 54 Single-Source Supplements for Current Senior Medicare Patrol (SMP) State Grantee

ACTION: Notice of single-source supplements.

SUMMARY: The Administration for Community Living (ACL) announces the intent to award 54 administrative supplements in the form of cooperative agreements to existing SMP project grantees to further support SMP activities in each state, the District of Columbia, Guam, Puerto Rico, and the U.S. Virgin Islands. The purpose of existing grantees' work is to empower and assist Medicare beneficiaries, their families, and caregivers to prevent, detect, and report health care fraud, errors, and abuse through outreach, counseling, and education with an emphasis on reaching Medicare beneficiaries with limited income and those residing in rural areas. The administrative supplements for FY 2021 will be distributed via formula to the existing 54 SMP state grantees, bringing the total for the supplement awards to $2,002,468. These current SMP grantees will use this funding to further enhance or expand existing and prior established plans to empower and assist Medicare beneficiaries, their families, and caregivers to prevent, detect, and report health care fraud, errors, and abuse through outreach, counseling, and education. This additional funding will be targeted to reach Medicare beneficiaries with limited income, and/or those residing in rural areas.

FOR FURTHER INFORMATION CONTACT: For further information or comments regarding this program supplement, contact Marissa Whitehouse, U.S. Department of Health and Human Services, Administration for Community Living, Center for Integrated Programs, Office of Healthcare Information and Counseling; telephone (202) 795-7425; email Marissa.Whitehouse@acl.hhs.gov.

SUPPLEMENTARY INFORMATION: Program Name: Senior Medicare Patrol (SMP).

Recipient: 54 current SMP grantees.

Current grantee | State | FY21 ACL recommended supplement amount
Alabama Dept of Senior Services | Alabama | $41,488
Alaska Department of Health and Social Services | Alaska | 4,408
Arizona Department of Economic Security | Arizona | 32,105
Arkansas Department of Human Services | Arkansas | 36,963
California Health Advocates | California | 170,823
Colorado Division of Insurance | Colorado | 22,047
The Department of Rehabilitation Services | Connecticut | 16,044
Delaware Division of Social Services | Delaware | 4,199
Legal Counsel For The Elderly | District of Columbia | 2,658
Florida Department of Elder Affairs | Florida | 116,372
Eqhealth Solutions, Inc | Georgia | 59,236
Guam Department of Public Health & Social Services | Guam | 1,318
Hawaii Department of Health | Hawaii | 10,665
Idaho Commission on Aging | Idaho | 12,481
AgeOptions, Inc | Illinois | 65,894
IAAAA Education Institute, Inc | Indiana | 45,349
Iowa Department of Commerce | Iowa | 26,115
Kansas Department for Aging and Disability Services | Kansas | 18,494
Louisville-Jefferson County Metro Government | Kentucky | 46,755
Eqhealth Solutions, Inc | Louisiana | 34,011
Maine Department of Health and Human Services | Maine | 13,962
Aging, Maryland Department of | Maryland | 21,364
Elder Services of The Merrimack Valley Inc | Massachusetts | 32,656
MMAP Inc | Michigan | 63,145
Minnesota Department of Human Services | Minnesota | 33,924
Eqhealth Solutions, Inc | Mississippi | 34,405
District III Area Agency on Aging | Missouri | 45,870
Missoula Aging Services | Montana | 12,067
Insurance, Nebraska Department of | Nebraska | 13,080
State of Nevada Aging and Disability Services Division | Nevada | 14,798
New Hampshire Dept of Health and Human Services | New Hampshire | 10,893
Jewish Family & Vocational Service of Middlesex County, Inc | New Jersey | 34,929
Aging & Long-Term Services Department, New Mexico | New Mexico | 16,806
NY Statewide Senior Action Council, Inc | New York | 122,593
North Carolina Department of Insurance | North Carolina | 78,824
Minot State University | North Dakota | 5,558
Pro Seniors Inc | Ohio | 76,984
Oklahoma State Insurance Department | Oklahoma | 29,996
DHS Office of Financial Services | Oregon | 23,257
Center for Advocacy for the Rights and Interests of the Elderly | Pennsylvania | 80,868
Hispanic-American Institute, Inc | Puerto Rico | 69,909
Rhode Island Dept of Elderly Affairs | Rhode Island | 5,334
South Carolina Department on Aging | South Carolina | 38,362
South Dakota Department of Human Services | South Dakota | 7,419
Upper Cumberland Development District | Tennessee | 54,777
Better Business Bureau Educational Foundation | Texas | 134,139
Legal Services of Virgin Islands Inc | U.S. Virgin Islands | 1,980
Human Services, Utah Department of | Utah | 10,035
Community of Vermont Elders | Vermont | 7,973
Virginia Association of Area Agencies on Aging | Virginia | 45,083
Washington State Insurance Commissioner | Washington | 30,651
Senior Services West Virginia Bureau | West Virginia | 20,356
Greater Wisconsin Agency on Aging Resources, Inc | Wisconsin | 37,286
Wyoming Senior Citizens, Inc | Wyoming | 5,760

Period of Performance: The award will be issued for the Fiscal Year 2021 project period of June 1, 2021 through May 31, 2022.

Total Award Amount: $2,002,468 total in FY 2021.

Award Type: Cooperative Agreement.

Statutory Authority: The statutory authority is contained in the HIPAA of 1996 (Pub. L. 104-191).

Basis for Award: With the final FY 2021 appropriation, Congress established the new baseline for the SMP program, setting the minimum ACL will receive to support this program to $20 million annually. This is an increase of $2 million over the amount ACL received for SMP historically. The additional funding is intended to expand and enhance current SMP activities with the purpose of reaching more Medicare beneficiaries. As such, OHIC is proposing to distribute the additional funding to the existing SMP state grantees to establish new baseline funding amounts for each of the state projects.

The current SMP state grantees are funded to carry out the SMP Project mission for the period of June 1, 2018 through May 31, 2023. Much work has already been completed and further tasks are currently being accomplished. It would be unnecessarily time consuming and disruptive to the SMP program, and the beneficiaries being served, for ACL to establish new grantees at this time. The current grantees are providing critical services in an efficient and successful manner. These administrative supplements will allow the SMP state grantees to expand their current work in empowering Medicare beneficiaries, their families, and caregivers to prevent, detect, and report health care fraud, errors, and abuse through outreach, counseling, and education with a particular emphasis on reaching Medicare beneficiaries with limited income and those residing in rural areas. The existing SMP state grantees are uniquely placed to continue and expand this work. Since 2018, and for years before for many repeat grantees, current grantees have been the proven state and community presence for preventing, detecting, and reporting Medicare fraud. There is one SMP state grantee project in each of the 50 States, the District of Columbia, Puerto Rico, Guam, and the U.S. Virgin Islands. In 2019, the most up-to-date complete year of data, the 54 SMP projects had a total of 6,875 active team members who conducted a total of 28,146 group outreach and education events, reaching an estimated 1.6 million people. In addition, the projects had 320,590 individual interactions with, or on behalf of, a Medicare beneficiary. For 2019, the SMP projects reported $2.4 million in expected Medicare recoveries. This program has successfully operated since its inception 23 years ago. Current grantees are closely monitored and are successfully meeting all programmatic goals under the current SMP grant.

Dated: May 26, 2021.
Alison Barkoff,
Acting Administrator and Assistant Secretary for Aging.

[FR Doc. 2021-11779 Filed 6-3-21; 8:45 am]

BILLING CODE 4154-01-P